COMMODITY FUTURES TRADING COMMISSION

Agency Information Collection Activities Under OMB Review

AGENCY: Commodity Futures Trading Commission.

ACTION: Notice.

SUMMARY: In compliance with the Paperwork Reduction Act of 1995 (“PRA”), this notice announces that the Information Collection Request (“ICR”) abstracted below has been forwarded to the Office of Management and Budget (“OMB”) for review and comment. The ICR describes the nature of the information collection and its expected costs and burden.

DATES: Comments must be submitted on or before January 22, 2015.

ADDRESSES: Comments may be submitted to OMB within 30 days of the notice's publication, identified by “Privacy of Consumer Financial Information” (OMB Control No. 3038-0055). Comments can be mailed to the Office of Information and Regulatory Affairs, Office of Management and Budget, Attention: Desk Officer for the Commodity Futures Trading Commission, 725 17th Street NW., Washington, DC 20503, or sent by email to OIRAsubmissions@omb.eop.gov, and also mailed to Kathy Harman-Stokes, Chief Privacy Officer, U.S. Commodity Futures Trading Commission, 1155 21st Street NW., Washington, DC 20581.

Comments may also be submitted, regarding the burden estimated or any other aspect of the information collection, including suggestions for reducing the burden, identified by “Privacy of Consumer Financial Information” (OMB Control No. 3038-0055), by any of the following methods:

• Agency Web site, via its Comments Online process: http://comments.cftc.gov. Follow the instructions for submitting comments through the Web site.

• Mail: Christopher Kirkpatrick, Secretary of the Commission, Commodity Futures Trading Commission, Three Lafayette Centre, 1155 21st Street, NW., Washington, DC 20581.

• Hand Delivery/Courier: Same as Mail, above.

• Federal eRulemaking Portal: http://www.regulations.gov/search/index.jsp. Follow the instructions for submitting comments.

All comments must be submitted in English, or if not, accompanied by an English translation. Comments will be posted as received to http://www.cftc.gov. You should submit only information that you wish to make available publicly. If you wish the Commodity Futures Trading Commission (“Commission”) to consider information that is exempt from disclosure under the Freedom of Information Act, a petition for confidential treatment of the exempt information may be submitted according to the procedures set forth in § 145.9 of the Commission's regulations.¹

¹ Commission regulations referred to herein are found at 17 CFR Ch. 1 et seq. (2014).

The Commission reserves the right, but shall have no obligation, to review, pre-screen, filter, redact, refuse or remove any or all of your submission from www.cftc.gov that it may deem to be inappropriate for publication, such as obscene language. All submissions that have been redacted or removed that contain comments on the merits of the rulemaking will be retained in the public comment file and will be considered as required under the Administrative Procedure Act and other applicable laws, and may be accessible under the Freedom of Information Act.

FOR FURTHER INFORMATION CONTACT: Kathy Harman-Stokes, Chief Privacy Officer, U.S. Commodity Futures Trading Commission, 1155 21st Street NW., Washington, DC 20581; (202) 418-6629; FAX: (202) 418-5532; email: kharman-stokes@cftc.gov, and refer to OMB Control No. 3038-0055. This contact can also provide a copy of the ICR.

SUPPLEMENTARY INFORMATION: Title: “Privacy of Consumer Financial Information,” OMB Control No. 3038-0055—Extension. This is a request for extension of a currently approved information collection.

Abstract: The passage of the Dodd-Frank Wall Street Reform and Consumer Protection Act (“Dodd-Frank Act”), Public Law 111-203, 124 Stat. 1376 (2010), broadened the Commission's regulatory authority under the Gramm-Leach-Bliley Act (“GLB Act”) to cover two new entities: Swap Dealers and Major Swap Participants, in addition to Futures Commission Merchants, Commodity Trading Advisors, Commodity Pool Operators, and Introducing Brokers. Specifically, amendments to the GLB Act found in section 1093 of the Dodd-Frank Act, reaffirmed the Commission's authority to promulgate regulations to require entities that are subject to the Commission's jurisdiction to provide certain privacy protections for consumer financial information. These regulations were later extended to Retail Foreign Exchange Dealers.

An agency may not conduct or sponsor, and a person is not required to respond to, a collection of information unless it displays a currently valid OMB control number. The OMB control numbers for the Commission's regulations were published on December 30, 1981. See 46 FR 63035 (Dec. 30, 1981). The Federal Register notice with a 60-day comment period soliciting comments on this collection of information was published on October 23, 2014 (79 FR 63384).

No comments have been received.

Burden statement: The respondent burden for this collection is estimated to average 0.24 hours per response.

Respondents/Affected Entities: 110.

Estimated number of responses: 20.

Estimated total annual burden on respondents: 528 hours.

Frequency of collection: Annual.

(Authority: 44 U.S.C. 3501 et seq.)

Dated: December 18, 2014.
Christopher J. Kirkpatrick,
Secretary of the Commission.

[FR Doc. 2014-30037 Filed 12-22-14; 8:45 am]

BILLING CODE 6351-01-P